ENVIRONMENTAL PROTECTION AGENCY

40 CFR Part 55

[EPA-R01-OAR-2018-0011; FRL-9976-49—Region 1]

Outer Continental Shelf Air Regulations; Consistency Update for Massachusetts; Reopening of Comment Period

AGENCY: Environmental Protection Agency (EPA).

ACTION: Proposed rule; reopening of the public comment period.

SUMMARY: The Environmental Protection Agency (EPA) issued a proposed rule in the Federal Register on February 12, 2018, proposing to update a portion of the Outer Continental Shelf (OCS) Air Regulations that pertains to the requirements for OCS sources for which Massachusetts is the designated the Corresponding Onshore Area (COA). On March 9, 2018, the Commonwealth of Massachusetts amended certain regulatory provisions that pertain to the EPA's February 12, 2018 proposed rulemaking. This document reopens the comment period for 30 days and provides notice that the EPA has modified the proposed regulatory text for incorporation by reference in the EPA final rule for this action. The EPA has also added additional information to the docket.

DATES: Written comments on the proposed rule published in the Federal Register on February 12, 2018 (83 FR 5971) should be received on or before June 8, 2018.

ADDRESSES: Submit your comments, identified by Docket ID No. EPA-R01-OAR-2018-0011 at https://www.regulations.gov, or via email to wortman.eric@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the For Further Information Contact section. For the full EPA public comment policy, information about CBI or multimedia submissions, and general guidance on making effective comments, please visit https://www.epa.gov/dockets/commenting-epa-dockets. Publicly available docket materials are available at https://www.regulations.gov or at the U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

FOR FURTHER INFORMATION CONTACT: Eric Wortman, Office of Ecosystem Protection, U.S. Environmental Protection Agency, EPA New England Regional Office, 5 Post Office Square (Mail Code OEP05-2), Boston, MA 02109, (617) 918-1624, wortman.eric@epa.gov.

SUPPLEMENTARY INFORMATION: Throughout this document whenever “we,” “us,” or “our” is used, we mean EPA.

Table of Contents

I. Background and Purpose

II. Why is the EPA reopening the comment period?

III. Incorporation by Reference

I. Background and Purpose

On February 12, 2018, the EPA published a proposed rulemaking in the Federal Register to update a portion of the OCS Air Regulations. See 83 FR 5971. As stated in the EPA's February 12, 2018 proposed rulemaking, requirements applying to OCS sources located within 25 miles of states' seaward boundaries must be updated periodically to remain consistent with the requirements of the COA, as mandated by section 328(a)(1) of the Clean Air Act. The portion of the OCS air regulations that is being updated in the proposed rulemaking pertains to the requirements for OCS sources for which Massachusetts is the designated COA. The intended effect of approving the OCS requirements for the Massachusetts Department of Environmental Protection (MassDEP) is to regulate emissions from OCS sources in accordance with the requirements for onshore sources. The Commonwealth of Massachusetts' requirements discussed in the EPA's proposed rulemaking will be incorporated by reference into the Code of Federal Regulations (CFR) and listed in the appendix to the OCS air regulations in 40 CFR part 55.

II. Why is the EPA reopening the comment period?

Among other things, the EPA's February 12, 2018 action proposed to incorporate into 40 CFR part 55 the applicable provisions of 310 Code of Massachusetts Regulations (CMR) 7.00: Air Pollution Control, as amended through January 16, 2018. On March 9, 2018, the MassDEP promulgated amendments to the regulations at 310 CMR 7.00. Pursuant to 40 CFR 55.12, consistency reviews will occur if the EPA finds that part 55 is inconsistent with the requirements in effect in the COA. Therefore, the EPA is including the Commonwealth's March 9, 2018 amended regulations for 310 CMR 7.00 in the EPA's proposed consistency update to 40 CFR part 55 in addition to the other regulations EPA proposed for inclusion in the February 12, 2018 proposed rulemaking. The EPA has added the amended regulations at 310 CMR 7.00 to the docket and is reopening the comment period to give all interested persons the opportunity to comment on the incorporation by reference of the amended regulations at 310 CMR 7.00.¹ This document reopens the public comment period established in the Federal Register document on February 12, 2018 (83 FR 5971) (FRL-9974-28—Region 1).

¹ The EPA is required to submit a true copy of the regulations, attested by the Commonwealth of Massachusetts, to the Office of the Federal Register for incorporation by reference in the final rule. The EPA obtained a true copy of the amended regulations in effect as of March 9, 2018. The Commonwealth of Massachusetts State Bookstore bundles 310 CMR 6.00, 310 CMR 7.00, and 310 CMR 8.00 into a single package for the purpose of attesting a true copy. Although the regulations at 310 CMR 6.00 and 310 CMR 8.00 were not part of the March 9, 2018 amendments, the EPA has updated the effective date for 310 CMR 6.00-8.00 in the regulatory text proposed for incorporation by reference for consistency with the updated true copy of the regulations. The true copy of the regulations for 310 CMR 6.00-8.00 obtained by the EPA has been added to the docket for this action.

To submit comments, or access the docket, please follow the detailed instructions provided in the ADDRESSES section of this Federal Register. Please refer to the EPA's February 12, 2018 (83 FR 5971) proposed rulemaking for more detailed information regarding this rulemaking action.

III. Incorporation by Reference

In the February 12, 2018 action, the EPA proposed to include in a final EPA rule regulatory text that includes incorporation by reference. The EPA is including the updated regulatory text below to reflect the March 9, 2018 effective date of the Commonwealth's amended regulations discussed in this document. In accordance with the requirements of 1 CFR 51.5, the EPA is proposing to incorporate by reference the Code of Massachusetts Regulations rules set forth below. The EPA has made, and will continue to make, these materials available through www.regulations.gov and at the EPA New England Region 1 Office (please contact the person identified in the FOR FURTHER INFORMATION CONTACT section of this document for more information).

List of Subjects in 40 CFR Part 55

Environmental protection, Administrative practice and procedure, Air pollution control, Carbon monoxide, Incorporation by reference, Intergovernmental relations, Lead, Nitrogen dioxide, Outer continental shelf, Ozone, Particulate matter, Permits, Reporting and recordkeeping requirements, Sulfur oxides, Volatile organic compounds.

Dated: April 19, 2018.
Alexandra Dunn,
Regional Administrator, EPA Region 1.

For the reasons set out in the preamble, title 40 of the Code of Federal Regulations, part 55, is proposed to be amended as follows:

PART 55—OUTER CONTINENTAL SHELF AIR REGULATIONS

1. The authority citation for part 55 continues to read as follows:

Authority: Section 328 of the Clean Air Act (42 U.S.C. 7401 et seq.) as amended by Public Law 101-549.

2. Section 55.14 is amended by revising paragraph (e)(11)(i)(A) to read as follows:

§ 55.14 Requirements that apply to OCS sources located within 25 miles of States' seaward boundaries, by State.

* * * * *

(e) * * *

(11) * * *

(i) * * *

(A) Commonwealth of Massachusetts Requirements Applicable to OCS Sources, March 9, 2018.

* * * * *

3. Appendix A to part 55 is amended by revising paragraph (a)(1) under the heading “Massachusetts” to read as follows:

Appendix A to Part 55—Listing of State and Local Requirements Incorporated by Reference Into Part 55, by State

* * * * *

Massachusetts

(a) State requirements.

(1) The following Commonwealth of Massachusetts requirements are applicable to OCS Sources, March 9, 2018, Commonwealth of Massachusetts—Department of Environmental Protection.

The following sections of 310 CMR 4.00, 310 CMR 6.00, 310 CMR 7.00 and 310 CMR 8.00:

310 CMR 4.00: Timely Action Schedule and Fee Provisions

Section 4.01: Purpose, Authority and General Provisions (Effective 3/24/2017)

Section 4.02: Definitions (Effective 3/24/2017)

Section 4.03: Annual Compliance Assurance Fee (Effective 3/24/2017)

Section 4.04: Permit Application Schedules and Fee (Effective 3/24/2017)

Section 4.10: Appendix: Schedules for Timely Action and Permit Application Fees (Effective 3/24/2017)

310 CMR 6.00: Ambient Air Quality Standards for the Commonwealth of Massachusetts

Section 6.01: Definitions (Effective 3/9/2018)

Section 6.02: Scope (Effective 3/9/2018)

Section 6.03: Reference Conditions (Effective 3/9/2018)

Section 6.04: Standards (Effective 3/9/2018)

310 CMR 7.00: Air Pollution Control

Section 7.00: Statutory Authority; Legend; Preamble; Definitions (Effective 3/9/2018)

Section 7.01: General Regulations to Prevent Air Pollution (Effective 3/9/2018)

Section 7.02: U Plan Approval and Emission Limitations (Effective 3/9/2018)

Section 7.03: U Plan Approval Exemptions: Construction Requirements (Effective 3/9/2018)

Section 7.04: U Fossil Fuel Utilization Facilities (Effective 3/9/2018)

Section 7.05: U Fuels All Districts (Effective 3/9/2018)

Section 7.06: U Visible Emissions (Effective 3/9/2018)

Section 7.07: U Open Burning (Effective 3/9/2018)

Section 7.08: U Incinerators (Effective 3/9/2018)

Section 7.09: U Dust, Odor, Construction and Demolition (Effective 3/9/2018)

Section 7.11: U Transportation Media (Effective 3/9/2018)

Section 7.12: U Source Registration (Effective 3/9/2018)

Section 7.13: U Stack Testing (Effective 3/9/2018)

Section 7.14: U Monitoring Devices and Reports (Effective 3/9/2018)

Section 7.18: U Volatile and Halogenated Organic Compounds (Effective 3/9/2018)

Section 7.19: U Reasonably Available Control Technology (RACT) for Sources of Oxides of Nitrogen (NOX) (Effective 3/9/2018)

Section 7.21: Sulfur Dioxide Emissions Limitations (Effective 3/9/2018)

Section 7.22: Sulfur Dioxide Emissions Reductions for the Purpose of Reducing Acid Rain (Effective 3/9/2018)

Section 7.24: U Organic Material Storage and Distribution (Effective 3/9/2018)

Section 7.25: U Best Available Controls for Consumer and Commercial Products (Effective 3/9/2018)

Section 7.26: Industry Performance Standards (Effective 3/9/2018)

Section 7.60: U Severability (Effective 3/9/2018)

Section 7.00: Appendix A (Effective 3/9/2018)

Section 7.00: Appendix B (Effective 3/9/2018)

Section 7.00: Appendix C (Effective 3/9/2018)

310 CMR 8.00: The Prevention and/or Abatement of Air Pollution Episode and Air Pollution Incident Emergencies

Section 8.01: Introduction (Effective 3/9/2018)

Section 8.02: Definitions (Effective 3/9/2018)

Section 8.03: Air Pollution Episode Criteria (Effective 3/9/2018)

Section 8.04: Air Pollution Episode Potential Advisories (Effective 3/9/2018)

Section 8.05: Declaration of Air Pollution Episodes and Incidents (Effective 3/9/2018)

Section 8.06: Termination of Air Pollution Episodes and Incident Emergencies (Effective 3/9/2018)

Section 8.07: Emission Reductions Strategies (Effective 3/9/2018)

Section 8.08: Emission Reduction Plans (Effective 3/9/2018)

Section 8.15: Air Pollution Incident Emergency (Effective 3/9/2018)

Section 8.30: Severability (Effective 3/9/2018)

(2) [Reserved]

* * * * *

[FR Doc. 2018-09646 Filed 5-8-18; 8:45 am]

BILLING CODE 6560-50-P